ENVIRONMENTAL PROTECTION AGENCY

[FRL-7842-5]

Science Advisory Board Staff Office; Notification of an Teleconference Meetings of the Ecological Effects Subcommittee of the Advisory Council on Clean Air Compliance Analysis

AGENCY: Environmental Protection Agency (EPA).

ACTION: Notice.

SUMMARY: The EPA Science Advisory Board (SAB) Staff Office announces two public teleconference meetings of the Ecological Effects Subcommittee (EES) of the Advisory Council on Clean Air Compliance Analysis (Council). The EES will discuss the draft advisory report in response to EPA's charge questions related to the Agency's Benefits and Costs of the Clean Air Act, Revised Analytic Plan for EPA's Second Prospective Analysis, 1990-2020.

DATES: The public teleconference meetings of the Council EES will be held on December 9, 2004, from 11 a.m. to 1 p.m. (eastern time) and December 20, 2004, from 2 p.m.-4 p.m. (eastern time).

FOR FURTHER INFORMATION CONTACT: Members of the public who wish to obtain the teleconference call-in number and access code, or submit written or brief oral comments (three minutes or less) must contact Dr. Holly Stallworth, Designated Federal Officer, at telephone/voice mail: (202) 343-9867 or via e-mail at: stallworth.holly@epa.gov. Requests to provide oral comments must be in writing (e-mail, fax or mail) and received by Dr. Stallworth no later than five business days prior to the meeting in order to reserve time on the meeting agenda. It is the policy of the EPA Science Advisory Board Staff Office to accept written public comments of any length, and to accommodate oral public comments whenever possible. Any member of the public wishing further information regarding the SAB or the Council EES may also contact Dr. Stallworth, or visit the SAB Web site at: http://www.epa.gov/sab.

SUPPLEMENTARY INFORMATION:

Background: EPA's Office of Air and Radiation (OAR) conducts periodic, scientifically reviewed studies to assess the costs and benefits of regulations promulgated under the Clean Air Act. The Council is an outside body of recognized experts charged with reviewing the data, methods and cost-benefit analyses conducted by OAR for implementing its programs. The EES is one of the Council's three subcommittees. Additional information on the EES and its advisory activity was provided in a Federal Register notice published on October 14, 2004 (69 FR 60996). Additional background on the Council and on the statutorily mandated analyses of the costs and benefits of Clean Air Act programs was provided in a Federal Register notice published on February 14, 2003 (68 FR 7531-7534).

The December 9 and December 20 teleconference meetings will provide the Council EES an opportunity to discuss draft responses to the Agency's three charge questions pertaining to ecological issues and Clean Air Act regulations. These three charge questions (numbers 18-20) may be found at: http://www.epa.gov/air/sect812/812chargequestions-070303finalrevised.pdf. Meeting agendas will be posted on the SAB Web site prior to the teleconference meetings.

Procedures for Providing Public Comment: It is the policy of the SAB Staff Office to accept written public comments of any length, and to accommodate oral public comments whenever possible. The SAB Staff Office expects that public statements presented at any teleconference or face-to-face meeting will not be repetitive of previously submitted oral or written statements. Oral Comments: Requests to provide oral comments must be in writing (e-mail, fax or mail) and received by Dr. Stallworth no later than five business days prior to the teleconference in order to reserve time on the meeting agenda. For teleconferences, opportunities for oral comment will usually be limited to no more than three minutes per speaker and no more than fifteen minutes total. Written Comments: Although written comments are accepted until the date of the meeting (unless otherwise stated), written comments should be received in the SAB Staff Office at least five business days prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 98/2000/XP format).

Dated: November 16, 2004.
Vanessa T. Vu,
Director, EPA Science Advisory Board Staff Office.

[FR Doc. 04-26163 Filed 11-24-04; 8:45 am]

BILLING CODE 6560-50-P